GENERAL SERVICES ADMINISTRATION

[Notice-ID-2022-02; Docket No. 2022-0002; Sequence No. 29]

Privacy Act of 1974; Notice of a Modified System of Records

AGENCY: Office of the Chief Privacy Officer, General Services Administration (GSA).

ACTION: Notice of a modified system of records.

SUMMARY: GSA proposes to modify a system of records subject to the Privacy Act of 1974, as amended. Login.gov is a secure sign-in service with the capability to authenticate and identity proof users before the user is granted access to participating government websites or applications. GSA is modifying the categories of records in the system, the policies and practices for retrieval and routine uses of records, and removing outdated references to National Institute of Standards and Technology (NIST) technical standards. This modification is intended to revise and replace all notices previously describing this system of records.

DATES: Submit comments on or before: December 21, 2022.

ADDRESSES: Submit comments identified by “Notice-ID-2022-02, Notice of Modified System of Records” via. Submit comments via https://www.regulations.gov, the Federal eRulemaking portal, by searching for Notice-ID-2022-02, Notice of Modified System of Records. Select the link “Comment Now” that corresponds with “Notice-ID-2022-02, Notice of Modified System of Records.” Follow the instructions provided on the screen. Please include your name, company name (if any), and “Notice-ID-2022-02, Notice of Modified System of Records” on your attached document.

FOR FURTHER INFORMATION CONTACT: Richard Speidel, Chief Privacy Officer, GSA, by email at gsa.privacyact@gsa.gov or by phone at 202-969-5830.

SUPPLEMENTARY INFORMATION: GSA proposes to alter language in this system of records to remove an outdated NIST technical standard, and instead use plain language to describe the system's authentication and identity proofing process.

In 2019, the Office of Management and Budget (OMB) published Memorandum 2019-17 (M-19-17), which withdrew Memorandum 2004-04 (M-04-04) and specified the most recent version of NIST SP 800-63 as authoritative for defining levels associated with the rigor of various digital identity related functions. OMB directed agencies to transition from the prior use of Levels of Assurance (LOAs) from M-04-04 in favor of Authentication Assurance Levels (AALs), Identity Assurance Levels (IALs), and Federation Assurance Levels (FALs).

To prevent future potential misalignment between Federal guidance and this system of record notice (SORN), this revision removes references to NIST standards and instead uses plain language descriptions of Login.gov's authentication and identity proofing process. This revision also adds categories of records and two new routine uses related to research studies and fraud prevention operations, and details the records management practices for those new records.

Specifically:

• references to Level of Assurance (LOA) are removed because that is an outdated NIST technical standard and Login.gov instead uses plain language descriptions of its authentication and identity proofing process;

• use of records to increase coverage and access to authentication and identity proofing services to the public, including studies evaluating impacts to equitable access by identity verification.

• use of records to support fraud prevention operations to preserve integrity of the authentication and identity proofing system.

Richard Speidel,
Chief Privacy Officer, Office of the Deputy Chief Information Officer, General Services Administration.

SYSTEM NAME AND NUMBER:

GSA/TTS-1 (Login.gov)

SECURITY CLASSIFICATION:

Unclassified.

SYSTEM LOCATION:

General Services Administration owns Login.gov, which is housed in secure data centers in the continental United States. Contact the System Manager listed below for additional information.

SYSTEM MANAGER(S):

Daniel Lopez-Braus, Director, Login.gov, TTS, Office of Solutions, General Services Administration, 1800 F Street NW, Washington, DC 20405. https://www.Login.gov.

AUTHORITY FOR MAINTENANCE OF THE SYSTEM:

E-Government Act of 2002 (Pub. L. 107-347, 44 U.S.C. 3501 note), 6 U.S.C. 1523 (b)(1)(A)-(E), and 40 U.S.C. 501.

PURPOSES(S) OF THE SYSTEM:

The purposes of the system are:

• to provide a secure sign-in service with the capability to authenticate and identity proof users before the user is granted access to participating government websites or applications;

• to prevent fraud and to protect the integrity of the Login.gov system; and

• to conduct studies into enhancements to the secure sign-in service, including demographic studies of the equitable performance of new technologies.

CATEGORIES OF INDIVIDUALS COVERED BY THE SYSTEM:

Individuals covered by this system of records include members of the public seeking electronic access to a website or application from a federal, state, or local agency that has integrated with Login.gov (“partner agency”) and participants in studies commissioned by GSA to evaluate equitable performance of new identity verification and fraud prevention technologies.

CATEGORIES OF RECORDS IN THE SYSTEM:

The system contains information provided by individuals who create and use Login.gov accounts. There are two types of accounts in the Login.gov system: records related to the process of authenticating a Login.gov user's account, and records related to the process in which an individual's identity is verified.

For accounts for which Login.gov is authenticating the user, the system collects and maintains:

• email address,

• password,

• and phone number (optionally).

For accounts that require a verified identity, the system collects and maintains:

• photographs of their government-issued ID, to include all personal information and images on the ID. Photographs are stored in an encrypted format, and are only accessed to investigate suspected or confirmed fraud;

• Social Security Number (SSN); and

• phone number or postal address.

Each third-party identity proofing service will send information back to Login.gov about its attempt to identity proof the user, including:

• Transaction ID;

• pass/fail indicator;

• date/time of transaction; and

• status codes associated with the transaction data.

Each partner agency whose services the user accesses via Login.gov may add its own unique identifier to that user's account information.

To protect the public and the integrity of the system, Login.gov needs to detect and prevent fraud while providing redress to users who were unable to complete identity verification. To that end, Login.gov will also obtain a collection of information about the device (a “Device ID”) including, for example browser type and internet protocol (IP) address) and usage patterns (e.g., keyboard, mouse, or touchscreen behavior) used to access their Login.gov account. The Device ID and usage patterns are assessed by a third-party fraud prevention service along with the other information collected by Login.gov. The third-party fraud prevention services provide Login.gov risk scores for all of the information assessed, and also provide other identifying attributes that have been associated with that same Device ID in the past. Those identifying attributes include, but are not limited to, names, addresses, phone numbers, and SSNs that have been associated with the Device ID.

Separate from Login.gov's active sign-on service, GSA may also conduct studies in which it temporarily collects information from voluntary participants to evaluate the equitable performance of new technologies and guide service improvements. In addition to the categories of records previously described, collection of information for studies could include, but is not limited to:

• demographic information such as race, ethnicity, gender, income, age, and education; and

• biometric information to verify that the applicant matches the identity documents (e.g., a photograph or video of the user).

RECORD SOURCE CATEGORIES:

The sources for information in the system include individual Login.gov users, participants in GSA-commissioned studies, third-party identity-proofing services, partner agencies, and third-party fraud prevention services. Individual users and research participants provide information needed to authenticate themselves, verify their identity, or voluntarily respond to research surveys. Each third-party identity proofing service provides transaction details about their attempt to identity proof a user. Partner agencies may provide their own unique identifier to that user's account information. Third party fraud prevention services provide risk scores and identity attributes associated with a user's Device ID.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed to authorized entities, as is determined to be relevant and necessary, outside GSA as a routine use pursuant to 5 U.S.C. 552a(b)(3) as follows:

a. To the Department of Justice or other Federal agency conducting litigation or in proceedings before any court, adjudicative or administrative body, when: (a) GSA or any component thereof, or (b) any employee of GSA in his/her official capacity, or (c) any employee of GSA in his/her individual capacity where DOJ or GSA has agreed to represent the employee, or (d) the United States or any agency thereof, is a party to the litigation or has an interest in such litigation, and GSA determines that the records are both relevant and necessary to the litigation.

b. To third parties providing remote or in-person authentication and identity proofing services, inclusive of other federal agencies providing such services, as necessary to authenticate and/or identity proof an individual for access to a participating government website or application;

c. To an appropriate Federal, State, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

d. To a Member of Congress or his or her staff in response to a request made on behalf of and at the request of the individual who is the subject of the record.

e. To the Office of Management and Budget (OMB), Office of Inspector General (OIG), and the Government Accountability Office (GAO) in accordance with their responsibilities for evaluation or oversight of Federal programs.

f. To an expert, consultant, or contractor of GSA in the performance of a federal duty to which the information is relevant.

g. To the National Archives and Records Administration (NARA) for records management purposes.

h. To appropriate agencies, entities, and persons when (1) GSA suspects or has confirmed that there has been a breach of the system of records; (2) GSA has determined that as a result of the suspected or confirmed breach there is a risk of harm to individuals, GSA (including its information systems, programs and operations), the Federal Government, or national security; and (3) the disclosure made to such agencies, entities, and persons is reasonably necessary to assist in connection with GSA's efforts to respond to the suspected or confirmed breach or to prevent, minimize, or remedy such harm.

i. To another Federal agency or Federal entity, when GSA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

j. To the Government Publishing Office (GPO), when Login.gov needs to mail a user an address confirmation form or if a user requests mailed notifications of account changes or of proofing attempts.

k. To other federal agencies and third-party fraud prevention services as necessary to detect and investigate suspected fraud, including providing redress to users.

l. To third-party identity proofing services and fraud prevention services when participating in studies commissioned by the GSA to evaluate the equitable performance of new technologies and guide service improvements.

POLICIES AND PRACTICES FOR STORAGE OF RECORDS:

All records are stored electronically in databases. User account information is encrypted in transit and at rest.

POLICIES AND PRACTICES FOR RETRIEVAL OF RECORDS:

Records retrieval practices vary based on the type or category of record in the system.

a. When a user logs in, Login.gov retrieves their email and phone number (if provided) to send the user a one-time passcode.

b. When a user accesses a participating government website or application that requires the user's identity attributes, the following retrieval practice occurs:

i. The user successfully logs into their account (enabling decryption and retrieval of certain records);

ii. Login.gov decrypts and retrieves the user's verified personal information (full name, date of birth, postal address, and Social Security Number); and

iii. Login.gov requests that the user provide consent to share the personal information requested by the participating government site.

c. When a user with verified identity is recovering access to their account, the following retrieval practice occurs:

i. The user successfully authenticates their account when requesting to reset their Login.gov password;

ii. The user provides their personal recovery code (enabling decryption and retrieval of the records) and selects a new password;

iii. Login.gov retrieves the user's verified personal information (full name, date of birth, postal address, and Social Security Number);

iv. These attributes are then encrypted with the user's new password.

d. When Login.gov is performing fraud investigation and redress, the following retrieval practices occur:

i. Only trained Login.gov fraud operations personnel have access to records maintained specifically for fraud prevention purposes. This includes Device IDs and usage patterns associated with personal identifiers and risk scores as described in the Categories of Records in the System.

ii. Login.gov fraud operations personnel retrieve personal information (full name, date of birth, postal address and Social Security Number) from third-party identity proofing services while completing a manual review of a user's identity proofing transaction.

e. When GSA is conducting studies into enhancements to the secure sign-in service, data from voluntary participants' surveys and identity-proofing transactions are retrieved by GSA and third-party contractors to conduct statistical analysis of the performance of new technologies. Data from Login.gov' s active service is not retrieved during these studies.

POLICIES AND PRACTICES FOR RETENTION AND DISPOSAL OF RECORDS:

Retention and disposal policies and practices vary based on the type or category of record in the system.

a. Records related to active user authentication and validated user identities will be retained and disposed of in accordance with NARA's General Records Schedule (GRS) 3.2 (Transmittal 26), item 31 “System access records” covering user profiles, log-in files, password files, audit trail files and extracts, system usage files, and cost-back files used to assess charges for system use. The guidance instructs, “Destroy 6 years after password is altered or user account is terminated, but longer retention is authorized if required for business use.”

b. Records related to identity verification attempts (photographs of government IDs, personal information entered by the user) may be retained by Login.gov to aid in fraud investigation, redress, or product improvement.

c. Records related to fraud prevention operations, such as Device IDs and user behaviors with associated identity attributes and risk scores, are maintained by a third party on behalf of GSA for up to three years.

d. For studies commissioned by GSA, third-party proofing services will discard any information collected within 24 hours of collection. GSA will maintain the information for the duration of the study after which it will be preserved for 6 years as required by the GSA's retention schedule for Customer Research and Reporting Records.

ADMINISTRATIVE, TECHNICAL, AND PHYSICAL SAFEGUARDS:

Records in the system are protected from unauthorized access and misuse through a combination of administrative, technical, and physical security measures. Administrative measures include but are not limited to policies that limit system access to individuals within an agency with a legitimate business need, and regular review of security procedures and best practices to enhance security. Technical security measures within GSA include restrictions on computer access to authorized individuals, required use of passphrases and regular review of security procedures and best practices to enhance security. Access to the Login.gov database is maintained behind an industry-standard firewall and information in the database is encrypted. As noted above, other than email address, neither the system nor the system operators can retrieve the user's personal account information without the user supplying a password or recovery code. Trained and cleared Login.gov fraud operations personnel are able to cross-reference personal information used by third party or federal agency identity proofing services to validate a user's identity attributes as part of a manual review of identity proofing transactions. Records related to studies are kept separate from records related to Login.gov's active users.

RECORD ACCESS PROCEDURES:

Requests for access to records should be directed to the system manager. Individuals seeking access to their records in this system of records may submit a request by following the instructions provided in 41 CFR part 105-64, subpart 105-64.2.

CONTESTING RECORD PROCEDURES:

During identity proofing, an individual can use the Login.gov fraud operations redress mechanism to contest records used by third party identity proofing services. After identity proofing or participating in a study, individuals wishing to contest the content of records about themselves contained in this system of records should contact the system manager at the address above. See 41 CFR part 105-64, subpart 105-64.4 for full details on what to include in a Privacy Act amendment request.

NOTIFICATION PROCEDURES:

Individuals seeking notification of any records about themselves contained in this system of records should contact the system manager at the address above. Follow the procedures on accessing records in 41 CFR part 105-64, subpart 105-64.2 to request such notification.

EXEMPTIONS PROMULGATED FOR THE SYSTEM:

None.

HISTORY:

82 FR 6552; 82 FR 37451

[FR Doc. 2022-25420 Filed 11-18-22; 8:45 am]

BILLING CODE 6820-34-P